FEDERAL COMMUNICATIONS COMMISSION

47 CFR Part 73

[DA 06-609; MB Docket No. 05-279; RM-11276]

Radio Broadcasting Services; Black River and Old Forge, New York

AGENCY: Federal Communications Commission.

ACTION: Final rule.

SUMMARY: The Audio Division, at the request of Radioactive, LLC., reallots Channel 223A from Old Forge, New York to Black River, New York, and modifies the construction permit authorization, accordingly. The coordinates for Channel 223A at Black River are 44-04-01 North Latitude and 75-38-53 West Longitude, with a site restriction of 13.3 kilometers (8.3 miles) northeast of the community. Canadian concurrence has been obtained.

DATES: Effective May 1, 2006.

FOR FURTHER INFORMATION CONTACT: Helen McLean, Media Bureau, (202) 418-2738.

SUPPLEMENTARY INFORMATION: This is a synopsis of the Commission's Report and Order, MB Docket No. 05-279, adopted March 15, 2006, and released March 17, 2006. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for part 73 reads as follows:

Authority: 47 U.S.C. 154, 303, 334, 336.

§ 73.202 [Amended]

2. Section 73.202(b), the Table of FM Allotments under New York, is amended by removing Channel 223A at Old Forge and by adding Black River, Channel 223A.

Federal Communications Commission.
John A. Karousos,
Assistant Chief, Audio Division, Media Bureau.

[FR Doc. 06-3159 Filed 4-4-06; 8:45 am]

BILLING CODE 6712-01-P